DEPARTMENT OF COMMERCE

National Oceanic and Atmospheric Administration

RIN 0648-XD826

Marine Mammals; File No. 17967

AGENCY: National Marine Fisheries Service (NMFS), National Oceanic and Atmospheric Administration (NOAA), Commerce.

ACTION: Notice; issuance of permit amendment.

SUMMARY: Notice is hereby given that a permit has been issued to Minnesota Zoological Gardens (MZG), 13000 Zoo Blvd., Apple Valley, MN 55124, to conduct research on and enhancement of Hawaiian monk seals (Neomonachus schauinslandi) in captivity.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Amy Sloan or Jennifer Skidmore, (301) 427-8401.

SUPPLEMENTARY INFORMATION: On March 23, 2015, notice was published in the Federal Register (80 FR 15190) that a request for a permit to maintain the species identified for research and enhancement purposes had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The permit authorizes MZG to maintain up to eight nonreleasable Hawaiian monk seals in captivity at the MZG. Permitted research includes: (1) Annual blood samples and nasal swabs to be analyzed for presence of West Nile virus, canine distemper virus, and phocine distemper virus in seals previously vaccinated; and (2) testing various sedatives to inform use in the wild population. Seals may be used in research projects authorized under separate permits. MZG will continue public awareness on the status of the species through education and public observation of the seals. The permit expires May 1, 2020.

In compliance with the National Environmental Policy Act of 1969 (42 U.S.C. 4321 et seq.), a final determination has been made that the activity proposed is categorically excluded from the requirement to prepare an environmental assessment or environmental impact statement.

Dated: July 7, 2015.
Julia Harrison,
Chief, Permits and Conservation Division, Office of Protected Resources, National Marine Fisheries Service.

[FR Doc. 2015-16912 Filed 7-9-15; 8:45 am]

BILLING CODE 3510-22-P